DEPARTMENT OF COMMERCE

International Trade Administration

[Application No. 92-9A001]

Export Trade Certificate of Review

ACTION: Notice of Issuance of an amended Export Trade Certificate of Review to Aerospace Industries Association of America (“AIA”) (Application #92-9A001).

SUMMARY: The U.S. Department of Commerce issued an amended Export Trade Certificate of Review to Aerospace Industries Association of America on November 29, 2010. The Certificate has been amended eight times. The previous amendment was issued to AIA on October 5, 2009, and a notice of its issuance was published in the Federal Register on October 26, 2009 (74 FR 54961). The original Certificate for AIA was issued on September 8, 1992, and a notice of its issuance was published in the Federal Register on September 14, 1992 (57 FR 41920).

FOR FURTHER INFORMATION CONTACT: Joseph E. Flynn, Director, Office of Competition and Economic Analysis, International Trade Administration, by telephone at (202) 482-5131 (this is not a toll-free number) or e-mail at etca@trade.gov.

SUPPLEMENTARY INFORMATION: Title III of the Export Trading Company Act of 1982 (15 U.S.C. Sections 4001-21) authorizes the Secretary of Commerce to issue Export Trade Certificates of Review. The regulations implementing Title III are found at 15 CFR Part 325 (2010).

The Office of Competition and Economic Analysis (“OCEA”) is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

AIA's Export Trade Certificate of Review has been amended to

1. Add the following new Members of the Certificate within the meaning of section 325.2(1) of the Regulations (15 CFR 325.2(1)):

Acutec Precision Manufacturing, Inc., Saegertown, PA; Airdat LLC, Morrisville, NC; Alcoa Defense, Crystal City, VA; Alliant Techsystems, Inc. (ATK), Minneapolis, MN; ANSYS, Inc., Canonsburg, PA; ArmorWorks Enterprises, LLC, Chandler, AZ; Bombardier, Montreal, Canada; Broad Reach Engineering Company, Golden, CO; Celestica Corporation, Toronto, Canada; Deloitte Consulting LLP, New York, NY; Guardsmark, LLC, New York, NY; Integral Systems, Inc., Columbia, MD; Jabil Defense & Aerospace Services LLC, St. Petersburg, FL; KPMG LLP, New York, NY; M7 Aerospace L.P., San Antonio, TX; Microsemi Corporation, Irvine, CA; OSI Systems, Inc., Hawthorne, CA; Pacifica Engineering, Inc., Mukiliteo, WA; Paragon Space Development Corporation, Tucson, AZ; Plexus Corporation, Neenah, WI; PWC Aerospace & Defense Advisory Services, McLean, VA; SAP Public Services, Inc., Washington, DC; SRA International, Inc., Fairfax, VA; Tech Manufacturing, LLC, Wright City, MO; Therm, Incorporated, Ithaca, NY; TIMCO Aviation Services, Inc., Greensboro, NC; Triumph Group Inc., Wayne, PA; UFC Aerospace, Bay Shore, NY; Vermont Composites, Inc., Bennington, VT; Xerox Corporation, Norwalk, CT.

2. Make the following changes in name or address of existing Members:

Accenture is now located in Chicago, IL, with controlling entity Accenture plc, Dublin, Ireland; AAR Manufacturing, Inc., Wood Dale, IL, is a Member in place of its controlling entity, AAR Corp., Wood Dale, IL; Barnes Group Inc., Bristol, CT, has replaced its subsidiary Barnes Aerospace, Windsor, CT, as the Member; Chromalloy Power Services Corporation, San Antonio, TX, has changed its name to Chromalloy (at the same location). The controlling entity remains the Carlyle Group, Washington, DC; Computer Sciences Corporation (CSC) moved from El Segundo, CA, to Falls Church, VA; Ducommon Incorporated moved from Long Beach, CA, to Carson, CA. Elbit Systems of America, LLC, Fort Worth, TX, the controlling entity of EFW Inc., Fort Worth, TX, has replaced EFW, Inc., as Member. The controlling entity of Elbit Systems of America, LLC, is Elbit Systems, Ltd., of Haifa, Israel. Electronic Data Systems Corporation, Plano, TX, has changed its name to HP Enterprise Services—Aerospace, Palo Alto, CA; General Electric Aviation, Cincinnati, OH, has replaced its controlling entity, General Electric Company, Fairfield, CT, as Member; Microsat Systems, Inc., Littleton, CO, has changed its name to Sierra Nevada Corporation, Space Systems, Littleton, CO; RTI International Materials Inc., has moved from Niles, OH, to Pittsburgh, PA; Science Applications International Corporation has moved from San Diego, CA, to McLean, VA; Sparton Corporation, Jackson, MI, has moved to Schaumburg, IL; Vought Aircraft Industries, Inc., Dallas, TX, has changed its name to Triumph Aerostructures—Vought Aircraft Division. The controlling entity is Triumph Group, Inc., Wayne, PA.

Dated: December 1, 2010.
Joseph E. Flynn,
Director, Office of Competition and Economic Analysis.

[FR Doc. 2010-30524 Filed 12-6-10; 8:45 am]

BILLING CODE 3510-DR-P